DEPARTMENT OF HOMELAND SECURITY

Coast Guard

33 CFR Part 100

[Docket No. USCG-2017-0592]

Special Local Regulations; Wheeling Vintage Raceboat Regatta, Ohio River Miles 90.4-91.5

AGENCY: Coast Guard, DHS.

ACTION: Notice of enforcement of regulation.

SUMMARY: The Coast Guard will enforce a special local regulation during the Wheeling Vintage Raceboat Regatta on the Ohio River miles 90.4 to 91.5, for all navigable waters of the river. This regulation is needed to protect vessels transiting the area and event spectators from the hazards associated with the Wheeling Vintage Raceboat Regatta. During the enforcement period, entry into, transiting, or anchoring in the regulated area is prohibited to all vessels not registered with the sponsor as participants or official patrol vessels, unless specifically authorized by the Captain of the Port Marine Safety Unit Pittsburgh (COTP) or a designated representative.

DATES: The regulations in 33 CFR 100.801, Table 1 Sector Ohio Valley, No. 28 will be enforced from 9 a.m. until 6 p.m., each day from September 2, 2017 through September 3, 2017.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce special local regulations for the annual Wheeling Vintage Raceboat Regatta in 33 CFR 100.801, Table 1 Sector Ohio Valley, No. 28 from 9 a.m. until 6 p.m. each day from September 2, 2017 through September 3, 2017. Entry into the regulated area is prohibited unless authorized by the Captain of the Port Marine Safety Unit Pittsburgh (COTP) or a designated representative. Persons or vessels desiring to enter into or pass through the area must request permission from the COTP or a designated representative. If permission is granted, all persons and vessels shall comply with the instructions of the COTP or designated representative.

This notice of enforcement is issued under authority of 33 CFR 100.801 and 5 U.S.C. 552 (a). In addition to this notice in the Federal Register, the Coast Guard will provide the maritime community with advance notification of this enforcement period via Local Notice to Mariners and updates via Marine Information Broadcasts.

Dated: July 20, 2017.
L. McClain, Jr.,
Commander, U.S. Coast Guard, Captain of the Port Marine Safety Unit Pittsburgh.

[FR Doc. 2017-15923 Filed 7-27-17; 8:45 am]

BILLING CODE 9110-04-P